DEPARTMENT OF COMMERCE

National Oceanic and Atmospheric Administration

[RTID 0648-XE425]

Caribbean Fishery Management Council; Virtual Meeting

AGENCY: National Marine Fisheries Service (NMFS), National Oceanic and Atmospheric Administration (NOAA), Commerce.

ACTION: Notice of a virtual meeting.

SUMMARY: The Caribbean Fishery Management Council's (Council) Outreach and Education Advisory Panel (OEAP) will hold a virtual meeting on November 21, 2024, to discuss the items contained in the agenda in the SUPPLEMENTARY INFORMATION.

DATES: The OEAP virtual meeting will be held on November 21, 2024, from 9:30 a.m. to 3 p.m., AST.

ADDRESSES: You may join the OEAP virtual meeting (via Zoom) from a computer, tablet or smartphone by entering the following address:

OEAP Zoom Meeting

Topic: OEAP

Time: This is a recurring meeting meet anytime

Join Zoom Meeting

https://us02web.zoom.us/j/84039986774?pwd=SUhDc1hXeFloQWF3ajVtL2ZHRGN3Zz09

Meeting ID: 840 3998 6774

Passcode: 179728

One tap mobile:

+17879667727,,84039986774#,,,,*179728# Puerto Rico

+19399450244,,84039986774#,,,,*179728# Puerto Rico

Dial by your location:

+1 787 966 7727 Puerto Rico

+1 939 945 0244 Puerto Rico

+1 787 945 1488 Puerto Rico

+1 669 900 6833 US (San Jose)

+1 929 205 6099 US (New York)

+1 253 215 8782 US (Tacoma)

+1 301 715 8592 US (Washington DC)

+1 312 626 6799 US (Chicago)

+1 346 248 7799 US (Houston)

Meeting ID: 840 3998 6774

Passcode: 179728

FOR FURTHER INFORMATION CONTACT: Diana Martino; phone: (787) 226-8849, Caribbean Fishery Management Council, 270 Muñoz Rivera Avenue, Suite 401, San Juan, Puerto Rico 00918-1903.

SUPPLEMENTARY INFORMATION:

November 21, 2024

9:30 a.m.-9:45 a.m.

—Call to Order

—Adoption of Agenda

9:45 a.m.-10:20 a.m.

—OEAP Chairperson's Report

—Updates:

—Meetings and Webinars Attended: CFMC 184th Meeting in San Juan, PR

—IRA Project: “Understanding Climate Change and its Impact on the Fishery Ecosystem and the Fisher's Community in the U.S. Caribbean”

—Short Break

10:20 a.m.-11 a.m.

—Update on Status of the Fishery Ecosystem Plan (FEP)—Liajay Rivera

11 a.m.-12 p.m.

—Update of the Island-Based Fishery Management Plans

—Fact Sheets on IBFMP

12 p.m.-1 p.m.

—Lunch

1 p.m.-3 p.m.

—OEAP Recommendation of Outreach Strategies on IBFMPs for Puerto Rico, St. Thomas/St. John, and St. Croix, U.S.V.I.

—Liaisons Recommendations

—Liaisons Reports;

—Wilson Santiago—Puerto Rico

—Nicole Greaux/St. Thomas, U.S.V.I.

—St. Croix, U.S.V.I.

—CFMC Facebook, Instagram and YouTube Communications with Stakeholders—Cristina Olán

—Other Business

The order of business may be adjusted as necessary to accommodate the completion of agenda items. The virtual meeting will begin on November 21, 2024, at 9:30 a.m., and will end on November 21, 2024, at 3 p.m. Other than the starting time, interested parties should be aware that discussions may start earlier or later than indicated, if needed, at the discretion of the Chair.

Special Accommodations

For any additional information on this virtual meeting, please contact Diana Martino, Caribbean Fishery Management Council, 270 Muñoz Rivera Avenue, Suite 401, San Juan, Puerto Rico, 00918-1903, telephone: (787) 226-8849.

Authority: 16 U.S.C. 1801 et seq.

Dated: November 14, 2024.
Rey Israel Marquez,
Acting Deputy Director, Office of Sustainable Fisheries, National Marine Fisheries Service.

[FR Doc. 2024-27086 Filed 11-19-24; 8:45 am]

BILLING CODE 3510-22-P